DEPARTMENT OF ENERGY

Federal Energy Regulatory Commission

Combined Notice of Filings #1

Take notice that the Commission received the following electric rate filings:

Docket Numbers: ER12-162-016; ER11-3876-019; ER16-438-002; ER11-2044-019; ER15-2211-007; ER10-2611-017.

Applicants: Bishop Hill Energy II LLC, Cordova Energy Company LLC, Marshall Wind Energy LLC, MidAmerican Energy Company, MidAmerican Energy Services, LLC, Saranac Power Partners, L.P.

Description: Notification of Change in Status of the BHE MBR Sellers.

Filed Date: 2/8/16.

Accession Number: 20160208-5181.

Comments Due: 5 p.m. ET 2/29/16.

Docket Numbers: ER15-13-004.

Applicants: Transource Wisconsin, LLC.

Description: Compliance filing: Transource Wisconsin Compliance Filing to be effective 12/1/2014.

Filed Date: 2/8/16.

Accession Number: 20160208-5171.

Comments Due: 5 p.m. ET 2/29/16.

Docket Numbers: ER15-1196-006.

Applicants: Nevada Power Company.

Description: Compliance filing: OATT Errata to Attachment P NPC to be effective 2/16/2016.

Filed Date: 2/9/16.

Accession Number: 20160209-5056.

Comments Due: 5 p.m. ET 3/1/16.

Docket Numbers: ER15-1627-001.

Applicants: PJM Interconnection, L.L.C.

Description: Compliance filing: Correction Filing to Beech Ridge II ISA No. 3087, Queue No. M24 to be effective 3/31/2015.

Filed Date: 2/8/16.

Accession Number: 20160208-5089.

Comments Due: 5 p.m. ET 2/29/16.

Docket Numbers: ER15-958-004.

Applicants: Transource Kansas, LLC.

Description: Compliance filing: Transource Kansas Compliance Filing to be effective 4/3/2015.

Filed Date: 2/8/16.

Accession Number: 20160208-5161.

Comments Due: 5 p.m. ET 2/29/16.

Docket Numbers: ER16-909-000.

Applicants: PJM Interconnection, L.L.C.

Description: § 205(d) Rate Filing: Original Service Agreement No. 4400; Queue Position Z2-046/AA1-066 to be effective 1/8/2016.

Filed Date: 2/8/16.

Accession Number: 20160208-5086.

Comments Due: 5 p.m. ET 2/29/16.

Docket Numbers: ER16-910-000.

Applicants: EPP New Jersey Solar, LLC.

Description: Tariff Cancellation: Cancellation of market-based rate tariff. to be effective 2/8/2016.

Filed Date: 2/8/16.

Accession Number: 20160208-5147.

Comments Due: 5 p.m. ET 2/29/16.

Docket Numbers: ER16-911-000.

Applicants: EPP New Jersey Biogas, LLC.

Description: Tariff Cancellation: Cancellation of market-based rate tariff. to be effective 2/8/2016.

Filed Date: 2/8/16.

Accession Number: 20160208-5148.

Comments Due: 5 p.m. ET 2/29/16.

Docket Numbers: ER16-912-000.

Applicants: Arizona Public Service Company.

Description: § 205(d) Rate Filing: Rate Schedule No. 274—Planning Participation Agreement to be effective 4/9/2016.

Filed Date: 2/8/16.

Accession Number: 20160208-5160.

Comments Due: 5 p.m. ET 2/29/16.

Docket Numbers: ER16-913-000.

Applicants: NextEra Energy Transmission West, LLC.

Description: Compliance filing: NextEra Energy Transmission West, LLC Compliance Filing-2 to be effective10/20/2015.

Filed Date: 2/8/16.

Accession Number: 20160208-5170.

Comments Due: 5 p.m. ET 2/29/16.

Docket Numbers: ER16-914-000.

Applicants: Axpo U.S. LLC.

Description: Baseline eTariff Filing: Axpo U.S. LLC Application for Market-Based Rate Authorization to be effective 4/5/2016.

Filed Date: 2/4/16.

Accession Number: 20160204-5238.

Comments Due: 5 p.m. ET 2/25/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 9, 2016.
Nathaniel J. Davis, Sr.,
Deputy Secretary.

[FR Doc. 2016-03017 Filed 2-12-16; 8:45 am]

BILLING CODE 6717-01-P